DEPARTMENT OF ENERGY

Federal Energy Regulatory Commission

Combined Notice of Filings #1

Take notice that the Commission received the following exempt wholesale generator filings:

Docket Numbers: EG25-451-000.

Applicants: Cherry Solar, LLC.

Description: Cherry Solar, LLC submits Notice of Self-Certification of Exempt Wholesale Generator Status.

Filed Date: 8/14/25.

Accession Number: 20250814-5217.

Comment Date: 5 p.m. ET 9/4/25.

Docket Numbers: EG25-452-000.

Applicants: Pinnington Solar LLC.

Description: Pinnington Solar LLC submits Notice of Self-Certification of Exempt Wholesale Generator Status.

Filed Date: 8/14/25.

Accession Number: 20250814-5218.

Comment Date: 5 p.m. ET 9/4/25.

Docket Numbers: EG25-453-000.

Applicants: Twelvemile Solar Energy, LLC.

Description: Twelvemile Solar Energy, LLC submits Notice of Self-Certification of Exempt Wholesale Generator Status.

Filed Date: 8/15/25.

Accession Number: 20250815-5053.

Comment Date: 5 p.m. ET 9/5/25.

Docket Numbers: EG25-454-000.

Applicants: Cherry Valley PV I, LLC.

Description: Cherry Valley PV I, LLC submits Notice of Self-Certification of Exempt Wholesale Generator Status.

Filed Date: 8/15/25.

Accession Number: 20250815-5061.

Comment Date: 5 p.m. ET 9/5/25.

Docket Numbers: EG25-455-000.

Applicants: Cooks Mill PV I, LLC.

Description: Cooks Mill PV I, LLC submits Notice of Self-Certification of Exempt Wholesale Generator Status.

Filed Date: 8/15/25.

Accession Number: 20250815-5066.

Comment Date: 5 p.m. ET 9/5/25.

Docket Numbers: EG25-456-000.

Applicants: Crooked Creek PV I, LLC.

Description: Crooked Creek PV I, LLC submits Notice of Self-Certification of Exempt Wholesale Generator Status.

Filed Date: 8/15/25.

Accession Number: 20250815-5073.

Comment Date: 5 p.m. ET 9/5/25.

Docket Numbers: EG25-457-000.

Applicants: BT Amador Storage, LLC.

Description: BT Amador Storage, LLC submits Notice of Self-Certification of Exempt Wholesale Generator Status.

Filed Date: 8/15/25.

Accession Number: 20250815-5077.

Comment Date: 5 p.m. ET 9/5/25.

Docket Numbers: EG25-458-000.

Applicants: Olympus Phase 1, LLC.

Description: Olympus Phase 1, LLC submits Notice of Self-Certification of Exempt Wholesale Generator Status.

Filed Date: 8/15/25.

Accession Number: 20250815-5107.

Comment Date: 5 p.m. ET 9/5/25.

Docket Numbers: EG25-459-000.

Applicants: Olympus Phase 2, LLC.

Description: Olympus Phase 2, LLC submits Notice of Self-Certification of Exempt Wholesale Generator Status.

Filed Date: 8/15/25.

Accession Number: 20250815-5110.

Comment Date: 5 p.m. ET 9/5/25.

Docket Numbers: EG25-460-000.

Applicants: Limon Wind III Energy, LLC.

Description: Limon Wind III Energy, LLC submits Notice of Self-Certification of Exempt Wholesale Generator Status.

Filed Date: 8/15/25.

Accession Number: 20250815-5114.

Comment Date: 5 p.m. ET 9/5/25.

Docket Numbers: EG25-461-000.

Applicants: Olympus Phase 3, LLC.

Description: Olympus Phase 3, LLC submits Notice of Self-Certification of Exempt Wholesale Generator Status.

Filed Date: 8/15/25.

Accession Number: 20250815-5119.

Comment Date: 5 p.m. ET 9/5/25.

Docket Numbers: EG25-462-000.

Applicants: Logan Wind, LLC.

Description: Logan Wind, LLC submits Notice of Self-Certification of Exempt Wholesale Generator Status.

Filed Date: 8/15/25.

Accession Number: 20250815-5127.

Comment Date: 5 p.m. ET 9/5/25.

Docket Numbers: EG25-463-000.

Applicants: ESTX-PLD-HOUSTON2, LLC.

Description: ESTX-PLD-HOUSTON2, LLC submits Notice of Self-Certification of Exempt Wholesale Generator Status.

Filed Date: 8/15/25.

Accession Number: 20250815-5152.

Comment Date: 5 p.m. ET 9/5/25.

Take notice that the Commission received the following electric rate filings:

Docket Numbers: ER25-2992-001.

Applicants: Southwest Power Pool, Inc.

Description: Tariff Amendment: 1628R29 Western Farmers Electric Cooperative NITSA NOAs to be effective 7/1/2025.

Filed Date: 8/15/25.

Accession Number: 20250815-5145.

Comment Date: 5 p.m. ET 9/5/25.

Docket Numbers: ER25-3184-000.

Applicants: West Deptford Energy, LLC.

Description: Request for Limited Waiver of the 90-day prior notice requirement set forth in Schedule 2 to the PJM OATT of West Deptford Energy, LLC.

Filed Date: 8/12/25.

Accession Number: 20250812-5204.

Comment Date: 5 p.m. ET 9/2/25.

Docket Numbers: ER25-3185-000.

Applicants: New York Independent System Operator, Inc.

Description: Tariff Amendment: Notice of Cancellation: EPCA SA 2600 among NYISO, National Grid, & Tayandenega to be effective 10/15/2025.

Filed Date: 8/15/25.

Accession Number: 20250815-5013.

Comment Date: 5 p.m. ET 9/5/25.

Docket Numbers: ER25-3186-000.

Applicants: Escalante BESS I LLC.

Description: Initial rate filing: Certificate of Concurrence to be effective 10/15/2025.

Accession Number: 20250815-5029.

Comment Date: 5 p.m. ET 9/5/25.

Docket Numbers: ER25-3187-000.

Applicants: ISO New England Inc., Central Maine Power Company.

Description: 205(d) Rate Filing: ISO New England Inc. submits tariff filing per 35.13(a)(2)(iii: ISO-NE/CMP; Second Rev. LGIA-ISONE/CMP-13-03 and First Rev. LGIA-ISONE/CMP-17-01 to be effective 7/30/2025.

Filed Date: 8/15/25.

Accession Number: 20250815-5045.

Comment Date: 5 p.m. ET 9/5/25.

Docket Numbers: ER25-3188-000.

Applicants: PJM Interconnection, L.L.C.

Description: 205(d) Rate Filing: Amendment to ISA, SA No. 6527; Queue No. AC1-053 to be effective 10/15/2025.

Filed Date: 8/15/25.

Accession Number: 20250815-5054.

Comment Date: 5 p.m. ET 9/5/25.

Docket Numbers: ER25-3189-000.

Applicants: Midcontinent Independent System Operator, Inc.

Description: 205(d) Rate Filing: 2025-08-15_SA 3471 Entergy Mississippi-Tunica Windpower 2nd Rev GIA (J866) to be effective 8/8/2025.

Filed Date: 8/15/25.

Accession Number: 20250815-5055.

Comment Date: 5 p.m. ET 9/5/25.

Docket Numbers: ER25-3190-000.

Applicants: Midcontinent Independent System Operator, Inc.

Description: 205(d) Rate Filing: 2025-08-15_SA 3454 Entergy Arkansas-Flat Fork Solar 3rd Rev GIA (J907 J1434) to be effective 8/11/2025.

Filed Date: 8/15/25.

Accession Number: 20250815-5060.

Comment Date: 5 p.m. ET 9/5/25.

Docket Numbers: ER25-3191-000.

Applicants: NextEra Energy Transmission New York, Inc., New York Independent System Operator, Inc.

Description: 205(d) Rate Filing: New York Independent System Operator, Inc. submits tariff filing per 35.13(a)(2)(iii: NYISO-NEET NY 205: Amended EPCA Excelsior Energy Center SA2690 to be effective 8/1/2025.

Filed Date: 8/15/25.

Accession Number: 20250815-5070.

Comment Date: 5 p.m. ET 9/5/25.

Docket Numbers: ER25-3192-000.

Applicants: Nevada Cogeneration Associates #2.

Description: Initial Rate Filing: Shared Facilities Agreement for NCA2 to be effective 10/15/2025.

Filed Date: 8/15/25.

Accession Number: 20250815-5085.

Comment Date: 5 p.m. ET 9/5/25.

Docket Numbers: ER25-3193-000.

Applicants: Twelvemile Solar Energy, LLC.

Description: Initial Rate Filing: Market-Based Rate Application to be effective 10/15/2025.

Filed Date: 8/15/25.

Accession Number: 20250815-5095.

Comment Date: 5 p.m. ET 9/5/25.

Docket Numbers: ER25-3194-000.

Applicants: PJM Interconnection, L.L.C.

Description: 205(d) Rate Filing: Revisions to CTOA for VEPCO Legal Name to be effective 10/15/2025.

Filed Date: 8/15/25.

Accession Number: 20250815-5101.

Comment Date: 5 p.m. ET 9/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 15, 2025.
Debbie-Anne A. Reese,
Secretary.

[FR Doc. 2025-15870 Filed 8-19-25; 8:45 am]

BILLING CODE 6717-01-P